DEPARTMENT OF COMMERCE

International Trade Administration

[A-570-908]

Postponement of Final Determination of Antidumping Duty Investigation: Sodium Hexametaphosphate From the People's Republic of China

AGENCY: Import Administration, International Trade Administration, Department of Commerce.

EFFECTIVE DATE: January 29, 2008.

FOR FURTHER INFORMATION CONTACT: Erin Begnal or Scot Fullerton, Import Administration, International Trade Administration, U.S. Department of Commerce, 14th Street and Constitution Avenue, NW., Washington, DC 20230; telephone: (202) 482-1442 or (202) 482-1386, respectively.

Postponement of Final Determination

On February 28, 2007, the Department of Commerce (“Department”) initiated the antidumping duty investigation of sodium hexametaphosphate from the People's Republic of China. See Initiation of Antidumping Duty Investigation: Sodium Hexametaphosphate From the People's Republic of China, 72 FR 9926 (March 6, 2007) (“Initiation Notice”); see also Notice of Correction of Initiation of Antidumping Duty Investigation: Sodium Hexametaphosphate from the People's Republic of China, 72 FR 11325 (March 13, 2007). On September 14, 2007, the Department published the Preliminary Determination in the antidumping duty investigation of sodium hexametaphosphate (“SHMP”) from the People's Republic of China. See Preliminary Determination of Sales at Less Than Fair Value: Sodium Hexametaphosphate from the People's Republic of China, 72 FR 52544 (September 14, 2007) (“Preliminary Determination”).

Section 735(a)(2) of the Tariff Act of 1930 (“the Act”) provides that a final determination may be postponed until not later than 135 days after the date of the publication of the preliminary determination if, in the event of an affirmative determination, a request for such postponement is made by exporters who account for a significant proportion of exports of the subject merchandise, or in the event of a negative preliminary determination, a request for such postponement is made by petitioner. In addition, the Department's regulations, at 19 CFR 351.210(e)(2), require that requests by respondents for postponement of a final determination be accompanied by a request for extension of provisional measures from a four-month period to not more than six months. See 19 CFR 351.210(e)(2).

On September 11, 2007, Hubei Xingfa Chemicals Group Co., Ltd., requested a 60-day extension of the final determination (i.e., 135 days after the publication of the preliminary determination) and extension of the provisional measures. On September 28, 2007, the Department published a 60-day postponement of the final determination of the investigation of SHMP from the PRC, based on the un-extended final determination date of November 20, 2007. See Postponement of Final Determination of Antidumping Duty Investigation: Sodium Hexametaphosphate from the People's Republic of China, 72 FR 55176 (September 28, 2007). The Department intended to fully postpone the final determination by 135 days, pursuant to section 735(a) of the Act and 19 CFR 351.210(b)(2), but it inadvertently calculated the postponement based on the signature date of the preliminary determination, as opposed to the publication date. With this notice, we intend to fully postpone the final determination based upon the publication date of the preliminary determination.

Thus, because our preliminary determination is affirmative, and the respondent requesting an extension of the final determination and an extension of the provisional measures, accounts for a significant proportion of exports of the subject merchandise, and no compelling reasons for denial exist, based on the date of the publication of the preliminary determination (September 14, 2007), we are postponing the final determination by 135 days until January 28, 2007.¹

¹ The full postponement would result in the signature day falling on January 27, 2008, which is a Sunday. Therefore, the signature day will roll over to the next business day, January 28, 2008, in accordance with our practice. See Notice of Clarification: Application of “Next Business Day” Rule for Administrative Determination Deadlines Pursuant to the Tariff Act of 1930, As Amended, 70 FR 24533 (May 10, 2005).

This notice is issued and published pursuant to sections 777(i) and 735(a)(2) of the Act and 19 CFR 351.210(g).

Dated: January 22, 2008.
David M. Spooner,
Assistant Secretary for Import Administration.

[FR Doc. E8-1555 Filed 1-28-08; 8:45 am]

BILLING CODE 3510-DS-P